DEPARTMENT OF COMMERCE

International Trade Administration

North American Free-Trade Agreement, Article 1904 NAFTA Panel Reviews; Notice of Completion of Panel Review.

AGENCY: NAFTA Secretariat, United States Section, International Trade Administration, Department of Commerce.

ACTION: Notice of completion of panel review of the final remand determination made by the U.S. International Trade Administration, in the matter of Carbon Steel Flat Products from Canada, Secretariat File No. USA-98-1904-01.

SUMMARY: Pursuant to the Order of the Binational Panel dated August 24, 2001, affirming the final remand determination described above was completed on September 4, 2001.

FOR FURTHER INFORMATION CONTACT: Caratina L. Alston, United States Secretary, NAFTA Secretariat, Suite 2061, 14th and Constitution Avenue, Washington, DC 20230, (202) 482-5438.

SUPPLEMENTARY INFORMATION: On August 24, 2001, the Binational Panel issued an order which affirmed the final remand determination of the United States International Trade Administration (“ITA”) concerning Carbon Steel Flat Products from Canada. The Secretariat was instructed to issue a Notice of Completion of Panel Review on the 31st day following the issuance of the Notice of Final Panel Action, if no request for an Extraordinary Challenge was filed. No such request was filed. Therefore, on the basis of the Panel Order and Rule 80 of the Article 1904 Panel Rules, the Panel Review was completed and the panelists discharged from their duties effective October 5, 2001.

October 5, 2001.
Caratina L. Alston,
United States Secretary NAFTA Secretariat.

[FR Doc. 01-25678 Filed 10-11-01; 8:45 am]

BILLING CODE 3510-GT-P